DEPARTMENT OF HEALTH AND HUMAN SERVICES

Centers for Disease Control and Prevention

[60Day-18-18AMQ; Docket No. CDC-2018-0061]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Assessing impact of the NIOSH research. The goal of the generic information collection request is to improve the ability of NIOSH to assess and demonstrate the extent to which its various research efforts are likely to or have led to improvements in workplace safety and health.

DATES: CDC must receive written comments on or before September 18, 2018.

ADDRESSES: You may submit comments, identified by Docket No. CDC-2018-0061 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Assessing impact of the NIOSH research—New—National Institute for Occupational Safety and Health (NIOSH), Centers for Disease Control and Prevention (CDC).

Background and Brief Description

The National Institute for Occupational Safety and Health (NIOSH) is responsible for conducting research and making recommendations to prevent worker injury and illness, as authorized in Section 20(a)(1) of the Occupational Safety and Health Act (29 U.S.C. 669). NIOSH is strongly committed to program evaluation as a way to maximize its contributions to improved occupational safety and health. NIOSH is requesting a new generic information collection request for a three-year period that will support the timely information collection needed for upcoming program evaluation activities, such as external reviews of NIOSH research programs (which fulfill a Government Performance and Results Act (GPRA) requirement, studies to understand the economic value of NIOSH research, process evaluations of NIOSH programs, and evaluations of large research projects. NIOSH needs to collect information about research dissemination and achieved outcomes from key audiences (grantees, potential NIOSH research users and relevant safety and health experts) for accountability and program improvement purposes. NIOSH is specifically interested in assessing intermediate outcomes—the use of NIOSH research products and findings by external stakeholders and partners to improve safety and health—as evidence of research impact. Being able to collect information on intermediate outcomes from grantees, as well as past, present and potential future users of NIOSH research would allow us to provide more robust evidence of use or adoption of NIOSH research products or findings.

The evaluation findings and recommendations from the various program evaluation activities described above will be used as an input for future direction of the programs and incorporated into analyses and reports to either investigate the value of NIOSH's research, or improve program operations to maximize impact. Data will be collected through semi-structured key informant interviews with grantees, potential or known users of NIOSH research and subject matter experts in safety and health. NIOSH estimates that 30 respondents will be involved in phone interviews, which would last between 30-60 minutes. However, participants might be burdened an additional hour reading the invitation email and providing relevant documents such as evidence of research impact. Therefore, the estimated burden for each participant is two hours. The total estimated burden is 60 hours. There is no cost to respondents other than their time.

Estimated Annualized Burden Hours
Type of respondents | Form name | Number of respondents | Number of responses per respondent | Average burden per response (in hours) | Total burden (in hours)
Natural science managers | Semi-Structured Interview Guide (Subject Matter Experts) | 10 | 1 | 2 | 20
Postsecondary Teachers | Semi-Structured Interview Guide (Grantees) | 12 | 1 | 2 | 24
Industrial production managers | Semi-Structured Interview Guide (Research users) | 8 | 1 | 2 | 16
Total |  |  |  |  | 60

Jeffrey M. Zirger,
Acting Chief, Information Collection Review Office, Office of Scientific Integrity, Office of the Associate Director for Science, Office of the Director, Centers for Disease Control and Prevention.

[FR Doc. 2018-15527 Filed 7-19-18; 8:45 am]

BILLING CODE 4163-18-P